DEPARTMENT OF COMMERCE

National Institute of Standards and Technology

Agency Information Collection Activities, Submission for Office of Management and Budget (OMB) Review and Emergency Approval; Comment Request; “Ask CHIPS” Information Collection

The Department of Commerce will submit the following information collection request to the Office of Management and Budget (OMB) for emergency review and approval in accordance with the Paperwork Reduction Act of 1995, on or after the date of publication of this notice. We invite the general public and other Federal agencies to comment on proposed, and continuing information collections, which helps us assess the impact of our information collection requirements and minimize the public's reporting burden.

Agency: National Institute of Standards and Technology (NIST), Commerce.

Title: “Ask CHIPS” Information Collection.

OMB Control Number: 0693-XXXX.

Form Number(s): N/A.

Type of Request: Emergency submission, new information collection request.

Number of Respondents: 250 respondents.

Average Hours per Response: 5 minutes.

Burden Hours: 21 hours.

Needs and Uses: The CHIPS Incentives Program is authorized by title XCIX—Creating Helpful Incentives to Produce Semiconductors for America of the William M. (Mac) Thornberry National Defense Authorization Act for Fiscal Year 2021 (Pub. L. 116-283, referred to as the CHIPS Act or Act), as amended by the CHIPS Act of 2022 (Division A of Pub. L. 117-167). The CHIPS Incentives Program is administered by the CHIPS Program Office (CPO) within the National Institute of Standards and Technology (NIST) of the United States Department of Commerce (Department). While the Act itself does not require this particular information collection, the CHIPS Program is committed to providing excellent customer service to stakeholders and offering a streamlined platform for applicants who have questions regarding the application process. This portal will enable a straight forward Customer Relation Management system to accomplish that goal.

The CHIPS External Affairs Office (EA) plans to collect requests for CHIPS meetings via a web portal. The information will be used by EA to schedule and coordinate meetings with CHIPS stakeholders. The CHIPS meeting request form will be a valuable resource for potential CHIPS Incentives applicants who are interested in learning more about the CHIPS program and how they can apply for CHIPS Incentive funding. Data elements include: basic customer information, including name, affiliation, and email address, as well as details on who they would like to meet with and when, and CHIPS-related topics they would like to discuss.

Affected Public: Businesses interested in CHIPS Act.

Frequency: On occasion; as needed.

Respondent's Obligation: Voluntary.

Legal Authority: None.

This information collection request may be viewed at www.reginfo.gov. Follow the instructions to view the Department of Commerce collections currently under review by OMB.

Written comments and recommendations for the proposed information collection should be submitted within three days of the publication of this notice on the following website www.reginfo.gov/public/do/PRAMain. To ensure consideration, comments regarding this proposed information collection must be received on or before February 13, 2023.

Find this particular information collection by selecting “Currently under 30-day Review—Open for Public Comments” or by using the search function and entering the title of the collection.

Sheleen Dumas,
Department PRA Clearance Officer, Office of the Chief Information Officer, Commerce Department.

[FR Doc. 2023-02692 Filed 2-7-23; 8:45 am]

BILLING CODE 3510-60-P